DEPARTMENT OF THE INTERIOR

Bureau of Land Management

Notice of Proposed Reinstatement of Terminated Oil and Gas Lease

AGENCY: Bureau of Land Management, Interior.

ACTION: Notice.

SUMMARY: Per Pub. L. 97-451, the lessee timely filed a petition for reinstatement of oil and gas lease MSES 49470, Monroe County, Mississippi. The lessee paid the required rentals accruing from the date of termination.

The Bureau of Land Management has not issued any leases affecting the lands. The lessee paid the $500 administration fee for the reinstatement of the lease. The lessee has met the requirements for reinstatement of the lease per sec. 31 (d) and (e) of the Mineral Leasing Act of 1920 (30 U.S.C. 188). We are proposing to reinstate the lease, effective the date of termination subject to:

• The original terms and conditions of the lease;

• The increased rental of $10 per acre;

• The increased royalty of 16⅔ percent; and

• The $158 cost of publishing this Notice.

FOR FURTHER INFORMATION CONTACT: Ida V. Doup, Chief, Branch of Use Authorization, Division of Resources, Planning, Use and Protection, BLM Eastern States Office, 7450 Boston Boulevard, Springfield, Virginia 22153, (703) 440-1541.

Dated: September 7, 2001.
Ida V. Doup,
Chief, Branch Use of Authorization, Division of Resources Planning, Use and Protection.

[FR Doc. 01-24449 Filed 9-28-01; 8:45 am]

BILLING CODE 4310-GJ-P